DEPARTMENT OF THE INTERIOR

Office of Surface Mining Reclamation and Enforcement

[S1D1S SS08011000 SX064A000 256S180110; S2D2S SS08011000 SX064A000 25XS501520]

Notice of Intent To Prepare an Environmental Impact Statement for Navajo Transitional Energy Company's No Name Permit Surface Mining Control & Reclamation Act Permit Application

AGENCY: Office of Surface Mining Reclamation and Enforcement, Interior.

ACTION: Notice of intent to prepare an environmental impact statement.

SUMMARY: The Office of Surface Mining Reclamation and Enforcement (OSMRE) is publishing this notice to announce that it will prepare an environmental impact statement (EIS) for Navajo Transitional Energy Company's (NTEC) proposed Surface Mining Control and Reclamation Act of 1977 (SMCRA) permit for the No Name Permit area within NTEC's existing Navajo Mine Lease 14-20-603-2505. With this notice, OSMRE is also providing notification to the public that it will hold a public scoping meeting and provide for a public scoping period to receive comments on the environmental issues that OSMRE should analyze in this EIS. If approved, the permit boundary would encompass 11,526 acres and authorize surface mining and reclamation operations on 9,042 acres and the recovery of 502 million tons of Navajo Nation coal.

DATES: OSMRE requests comments concerning the scope of the analysis in the EIS, as well as reasonable alternatives to be considered, and identification of relevant information, studies, and analyses that may be useful in evaluating potential impacts of the proposed action and alternatives. All comments must be received by February 4, 2026. The public scoping meeting will be held at the Burnham Chapter House on the Navajo Nation on Thursday, January 29, 2026, from 3:00 p.m. to 7:00 p.m.

ADDRESSES: You may submit comments related to the Project by either of the following methods:

• Email: NoNameNEPAComments@ce.solutions. Be sure to send emails with the subject line: ATTN: No Name SMCRA Permit EIS.

• Mail: ATTN No Name SMCRA Permit EIS, C/O Roberta Martínez Hernández, OSMRE Western Regions 5, 7-11, P.O. Box 25065, Lakewood, CO 80225-0065.

FOR FURTHER INFORMATION CONTACT: Roberta Martínez Hernández, NEPA Project Manager, email: rmartinezhernandez@osmre.gov or at the address provided in the ADDRESSES section. Individuals who use telecommunication devices for the deaf (TDD) may call the Federal Information Relay Service (FIRS) at 1-800-877-8339 between 8 a.m. and 8 p.m., Eastern Time, Monday through Friday.

SUPPLEMENTARY INFORMATION: OSMRE Regions 5, 7-11 will prepare an EIS for the No Name SMCRA Permit application (Project). In accordance with SMCRA, OSMRE must approve, disapprove, or approve the Project with conditions because the Project is on Indian lands, as that term is defined under SMCRA, including tribal lands with leased tribal coal (BIA Mine Lease 14-20-603-2505). The lease agreement grants NTEC the right to mine within the lease area; however, mining cannot occur until a SMCRA permit is obtained. The Navajo Nation owns the surface and mineral rights of the entire lease area and the permit areas located within it.

OSMRE will prepare an EIS to analyze the potential environmental effects of the Project. The EIS will analyze the potential environmental effects of mining, including the realignment of Burnham Road and the Pinabete Arroyo. The only current customer of the Navajo Mine Complex is the Four Corners Power Plant, which has an approved lease through 2041; therefore, it is reasonably foreseeable that all coal mined at the Project will be used at the plant until 2041. Beyond 2041, the ultimate destination for the coal from the Project is unknown.

The No Name Permit area is located on the Navajo Nation approximately 22 miles from Farmington, New Mexico. The proposed surface coal mine is within NTEC's existing Navajo Mine Lease 14-20-603-2505, located adjacent to the southern boundary of the current Navajo Mine (OSMRE Permit No. NM-0042B) and adjacent to NTEC's Pinabete permit southern boundary. The No Name boundary permit area covers 11,526 acres, completely within tribal lands, and the current surface land use is grazing. The Project would allow for 9,042 acres of additional surface disturbance and production of 502,984,700 tons of recoverable coal, extending the life of the mine to 2136. The initial permit will be for five years with a right of renewal for the life of the mine, as long as all legal requirements are met. The annual production rate for the Project is anticipated to be approximately 5 million tons per year, starting in 2031, which is the rate OSMRE intends to use to consider potential environmental impacts resulting from the Project.

Purpose and Need for the Proposed Action

The purpose and need for this EIS is for OSMRE to fulfill its obligation to ensure compliance with the requirements of NEPA with respect to permitting actions for surface coal mining and reclamation operations on Indian lands under 30 CFR 750.6(a)(7). 516 DM 1, Sec. 2.2.

Under the Department's Handbook of National Environmental Policy Act Implementing Procedures, 516 DM 1, “when the proposed action concerns a bureau's duty to act on an application for authorization, the purpose and need for the proposed action will also be informed by the goals of the applicant.” 516 DM 1, Sec. 2.2. Here, NTEC informed OSMRE that the Project is needed to allow NTEC to mine coal within its leased areas, to continue to provide coal to the Four Corners Power Plant for the duration of the Plant's continued operations, and to provide coal to future customers if the Four Corners Power Plant shuts down. NTEC was established by the Navajo Nation to exercise sovereignty over its natural resources. NTEC informed OSMRE that its purpose, including for the No Name Project, is to promote the development of the Navajo Nation's resources and new sources of energy, power, and transmission.

Preliminary Proposed Project and Alternatives

The Project proposes a new SMCRA permit area within Area 4 South and Area 5 of NTEC's existing Navajo Mine Lease 14-20-603-2505, located on the western flank of the San Juan Structural Basin south of the Navajo Mine (the No Name SMCRA Permit). The life of the mine would depend on the rate of production. The Project would require diversion of the Pinabete Arroyo into No Name Arroyo to mine in Area 4 South, as well as realignment of 7 miles of Burnham Road.

The EIS will evaluate the Proposed Action Alternative, a High Demand Alternative, and a No Action Alternative, and may evaluate additional action alternatives if other reasonable alternatives are identified that are technically and economically feasible, meet the purpose and need for the proposed action, are within the jurisdiction of OSMRE, and meet the goals of NTEC. Under the Proposed Action Alternative, mining would occur at a rate of 5 million tons per year, and the mine would operate through 2136. Under a High Demand Alternative, mining would occur at a rate of 15 million tons per year starting in 2036, and the mine would operate through 2076. Under both the Proposed Action Alternative and the High Demand Alternative, the permit boundary would encompass 11,526 acres and authorize surface mining and reclamation operations on 9,042 acres and the recovery of 502 million tons of Navajo Nation coal. Under the No Action Alternative, OSMRE would not approve the Project and no mining disturbance would occur.

Summary of Expected Impacts

OSMRE has completed internal scoping and identified preliminary analysis issues that will be evaluated in the EIS. The following reasonably foreseeable effects of mining coal within the No Name permit area will be evaluated for the following resources:

• Impacts to surface water resources quality and quantity as a result of diverting the Pinabete Arroyo; potential wastewater discharges to the No Name and Pinabete Arroyos; and water use during mining and reclamation;

• Impacts to groundwater quality and quantity as a result of surface mining and reclamation activities that may require dewatering;

• Impacts to air resources as a result of the Project;

• Disturbances to potential archaeological and tribal cultural resources as a result of ground-disturbance from surface mining activities;

• Impacts to topography and physiography from surface mining and reclamation activities;

• Impacts to wildlife, vegetation, and federally listed and proposed threatened/endangered species from the Project (e.g., increased noise, ground disturbance, vegetation removal); and

• Potential increases in ambient noise and vibration at sensitive receptor locations as a result of mining and reclamation activities.

Anticipated Permits and Authorizations

OSMRE action on the federal SMCRA permit.

Schedule for the Decision-Making Process

The Department plans to issue the Record of Decision in 2026.

Public Scoping Process

All public scoping comments must be submitted by email or by hard copy mail to the addresses listed under ADDRESSES. Before including your address, phone number, email address, or other personal identifying information in your comment, you should be aware that your entire comment—including your personal identifying information—may be made public at any time. While you may request in your comment to withhold your personal identifying information from public review, OSMRE cannot guarantee that this will occur.

The project web page located at (https://www.osmre.gov/laws-and-regulations/nepa/projects) includes the description of the Project, a map of the proposed mining area, and information about how to submit public comment on issues or concerns related to the Project. In addition to comments concerning the scope of the EIS analysis, commenters are encouraged to identify relevant information, studies, and analyses that would assist OSMRE in making its decision and in identifying potential alternatives to the Project.

OSMRE will review and consider all public scoping comments received and prepare a Scoping Summary Report. The Scoping Summary Report will be used by OSMRE to identify issues to be included in the EIS analysis, resources and issues that can be dismissed from detailed analysis because they are not present or not affected by the Project, and potential alternatives to be analyzed.

Lead and Cooperating Agencies

OSMRE is the lead agency for this EIS. The U.S. Environmental Protection Agency, Bureau of Land Management, Bureau of Indian Affairs, the Navajo Mineral Program, and Navajo Nation Environmental Protection Agency have been invited to be cooperating agencies. Other federal agencies, state, tribal, and local governments with jurisdiction by law or special expertise that are interested in participating in the preparation of this EIS should contact the above-mentioned NEPA Project Manager.

Decision Maker

Office of Surface Mining Reclamation and Enforcement.

Nature of Decision To Be Made

Informed, in part, by the EIS analysis, OSMRE will make a decision to approve, disapprove, or approve with conditions the No Name Permit area SMCRA permit application.

Marcelo Calle,
Acting Regional Director, Unified Interior Regions 5, 7-11.

[FR Doc. 2026-00702 Filed 1-14-26; 8:45 am]

BILLING CODE 4310-05-P